DEPARTMENT OF AGRICULTURE

Agricultural Marketing Service

7 CFR Part 29

[Doc. No. AMS-CN-25-0024]

RIN 0581-AE42

Tobacco Grading and Inspections Services—Rescission of Obsolete Import Grading and Pesticide Testing Provisions

AGENCY: Agricultural Marketing Service (AMS), Department of Agriculture (USDA)

ACTION: Direct final rule.

SUMMARY: This direct final rule amends regulations that govern the mandatory inspection and pesticide testing for imported tobacco established under The Tobacco Adjustment Act of 1983. The Fair and Equitable Tobacco Reform Act of 2004 eliminated mandatory inspection and pesticide testing for imported tobacco. In alignment with Executive Order 14192, AMS is amending and, where appropriate, removing regulations that have expired authorizing statutes or govern non-operational programs.

DATES: This direct final rule is effective July 28, 2025, without further action or notice, unless a significant adverse comment is received by June 27, 2025. If a significant adverse comment is received, AMS will publish in the Federal Register a withdrawal of this direct final rule prior to the effective date.

ADDRESSES: Comments can be submitted electronically at https://www.regulations.gov searching by the docket number listed above. Interested persons are invited to submit written comments concerning this direct final rule. Comments may also be submitted by mail or hand delivery to USDA AMS Cotton and Tobacco Program, 3275 Appling Road, Memphis, TN 38133. All comments should reference the docket number and the date and page number of this issue of the Federal Register. All comments submitted in response to this direct final rule will be included in the record and will be made available to the public at: https://www.regulations.gov. Public comments are posted without change. Any identifying information submitted with these comments will also be publicly available.

FOR FURTHER INFORMATION CONTACT: Angie Snyder, Deputy Administrator, USDA AMS-Cotton and Tobacco Program, 3275 Appling Road, Memphis, TN 38133; Telephone: (901) 384-3000; Email: angie.snyder@usda.gov.

SUPPLEMENTARY INFORMATION: AMS's regulations in 7 CFR part 29 implement section 213 of The Tobacco Adjustment Act of 1983 (Pub. L. 98-180; 7 U.S.C. 511r), which required that, prior to entry into the United States, all imported tobacco be inspected for grade and quality and that all imported flue-cured and burley tobacco be sampled and tested to determine if it conforms with the pesticide residue requirements. The Fair and Equitable Tobacco Reform Act of 2004 (sec. 611(b), Public Law 108-357, 118 Stat. 1522; Oct. 22, 2004) repealed 7 U.S.C. 511r, eliminating mandatory inspection/grading and pesticide testing of imported tobacco. Federal inspection/grading and pesticide testing of imported tobacco has continued to be provided upon request. Upon reviewing these regulations in light of changes to the law and in alignment with Executive Order 14192, AMS has determined that regulations in 7 CFR part 29 pertaining to the mandatory inspection/grading and pesticide testing of imported tobacco should be removed and, where appropriate, amended.

AMS is amending § 29.400 by revising paragraph (a) and removing paragraph (b) to reflect the change from mandatory to permissive inspection and pesticide testing of imported tobacco. Definitions in § 29.401 paragraphs (m), (o), (t), and (v) are related to obsolete business practices and, therefore, are removed. Furthermore, § 29.402 is being amended to reflect how the protocol for requesting inspection and pesticide testing services for imported tobacco have changed since mandatory inspection and pesticide testing of imported tobacco was eliminated.

AMS is removing §§ 29.406 and 407, 29.425, 29.429 and 29.431, which specify how import inspection certificates issued under mandatory inspection and pesticide testing were to be managed. AMS is amending § 29.426 to account for obsolete business practices related to mandatory inspection and pesticide testing of imported tobacco.

Lastly, AMS is making conforming amendments to §§ 29.430 and 29.500 for clarifying the appeal process for test results for imported tobacco and updating how user fees and charges are to be determined, respectively.

The inspection/grading and pesticide testing of imported tobacco are user-fee based services, which are services paid for by the industry through fees. Fee rates for these services are set such that all costs associated with these services are covered by revenues generated from providing these services. While permissive inspection/grading and pesticide testing of imported tobacco continue to be offered, AMS has not provided services related to the mandatory inspection/grading and pesticide testing of imported tobacco in twenty years. Therefore, costs or benefits associated with AMS's regulations governing mandatory inspection/grading and pesticide testing of imported tobacco are unknown. To the extent there is any uncertainty about the costs and benefits of these regulations, it is the policy of USDA to err on the side of deregulation and focus resources on fairly and rationally enforcing a discrete and manageable number of regulations.

Section 553(b)(3)(B) of the Administrative Procedure Act (APA) (5 U.S.C. 551 et seq.) authorizes agencies to dispense with prior notice and comment for rules when the agency for “good cause” finds that those procedures are “impracticable, unnecessary, or contrary to the public interest.” Under this section, an agency, upon finding good cause, may issue a direct final rule without first publishing a proposed rule. Removing regulations pertaining to mandatory inspection/grading and pesticide testing of imported tobacco and making conforming amendments will provide transparency and may reduce confusion for tobacco producers and other stakeholders. Further, AMS views this action as noncontroversial and anticipates no adverse public comment. This rule will become effective, as published in this document, July 28, 2025 without further action, unless adverse comments are received on or before June 27, 2025. Adverse comments are considered to be those comments that suggest the rule should not be adopted or suggest the rule should be changed.

If AMS receives adverse comments, a document will be published in the Federal Register, withdrawing this rule before the effective date. AMS will then publish a proposed rule for public comment. Following the close of that comment period, the comments will be considered, and a final rule will be published.

Under the Regulatory Flexibility Act (5 U.S.C. 601 et seq.), AMS certifies that this direct final rule will not, if issued, have a significant economic impact on a substantial number of small entities. AMS has not provided services related to the mandatory inspection/grading and pesticide testing of imported tobacco in twenty years. The amendments made by the direct final rule will merely conform the CFR with AMS' current operating practices. This rule has been determined to be not significant for the purposes of Executive Order 12866 and, therefore, has not been reviewed by the Office of Management and Budget (OMB). There are no current information collections associated with the regulations related to the mandatory inspection/grading and pesticide testing of imported tobacco.

USDA has determined that there is no reliance interest in obsolete aspects of regulations. Moreover, regardless of the lawfulness, USDA has no interest in maintaining regulations that have expired authorizing statutes or govern non-operational programs. Maintaining regulations pertaining to the obsolete regulations related to mandatory inspection/grading and pesticide testing of imported tobacco program in 7 CFR part 29 are not a priority. Therefore, AMS is removing and, where appropriate, amending the regulations in 7 CFR part 29 to eliminate references and provisions pertaining to mandatory inspection/grading and pesticide testing of imported tobacco.

List of Subjects in 7 CFR Part 29

Administrative practice and procedure, Advisory committees, Government publications, Imports, Pesticides and pests, Reporting and recordkeeping requirements, Tobacco.

For the reasons set forth in the preamble, AMS amends 7 CFR part 29 as follows:

PART 29—TOBACCO INSPECTION

1. The authority citation for part 29 continues to read as follows:

Authority: 7 U.S.C. 511-511s.

2. Revise § 29.400 to read as follows:

§ 29.400 Inspection, certification, and testing of imported tobacco.

Tobacco offered for importation into the United States, including tobacco entering foreign trade zones shall upon request be inspected for grade and/or pesticide testing.

§ 29.401 [Amended]

3. Remove and reserve paragraphs (m), (o), (t) and (v).

4. Revise § 29.402 to read as follows:

§ 29.402 Advance notice.

The importer shall notify, orally or in writing, the Director, of the date and location that tobacco subject to inspection under § 29.400 will be unloaded for warehousing, manipulation, or manufacturing. This notice shall be received at least five working days prior to unloading the tobacco for warehousing, manipulation, or manufacturing.

§ § 29.406, 29.407 and 29.425 [Removed]

5. Remove §§ 29.406, 29.407 and 29.425.

6. Revise § 29.426 to read as follows:

§ 29.426 Collection of pesticide test samples.

Any lot of tobacco not certified by the importer as being free of prohibited pesticide residues shall upon request be sampled in sufficient detail to determine whether the lot conforms with the pesticide residue standards.

§ 29.429 [Removed]

7. Remove § 29.429.

8. Amend § 29.430 by revising the first sentence to read as follows:

§ 29.430 Appeals.

Requests for resampling for the purpose of appeals of test results for imported tobacco must be communicated to the Director within 30 days from the receipt of notification. * * *

§ 29.431 [Removed]

9. Remove § 29.431.

10. Revise § 29.500 to read as follows:

§ 29.500 Fees and charges for inspection and acceptance of imported tobacco.

The fee for inspection of imported tobacco will be determined as described in § 29.123 and shall be paid by the importer.

Bruce Summers,
Administrator, Agricultural Marketing Service.

[FR Doc. 2025-09553 Filed 5-27-25; 8:45 am]

BILLING CODE 3410-02-P